DEPARTMENT OF COMMERCE

National Oceanic and Atmospheric Administration

RIN 0648-XC516

Gulf of Mexico Fishery Management Council (Council); Public Meetings

AGENCY: National Marine Fisheries Service (NMFS), National Oceanic and Atmospheric Administration (NOAA), Commerce.

ACTION: Notice of public meetings.

SUMMARY: The Gulf of Mexico and South Atlantic Fishery Management Councils will convene a Science Workshop of the Goliath Grouper Joint Council Steering Committee.

DATES: The meeting will convene at 9 a.m. to 4 p.m. EST on Tuesday, March 12, 2013.

ADDRESSES: The meeting will be held at the Gulf of Mexico Fishery Management Council, 2203 North Lois Avenue, Suite 1100, Tampa, FL 33607; telephone: (813) 348-1630.

Council address: Gulf of Mexico Fishery Management Council, 2203 North Lois Avenue, Suite 1100, Tampa, FL, 33607.

FOR FURTHER INFORMATION CONTACT: Dr. Stephen Bortone, Executive Director, Gulf of Mexico Fishery Management Council; telephone: (813) 348-1630.

SUPPLEMENTARY INFORMATION: The Ad Hoc Goliath Grouper Joint Council Steering Committee will hold a workshop to afford experts the opportunity to offer suggestions as to the scientific goals and objectives of any future management of Goliath Grouper. These goals and objectives will be based on what is currently known about the species and what needs to be known. Based on this input, both the Gulf of Mexico and South Atlantic Fishery Management Councils will provide additional guidance to the Joint Steering Committee as to further directions that should be taken to meet the identified objectives for both councils; and a discussion of future activities by the Steering Committee.

Copies of the agenda and other related materials can be obtained by calling (813) 348-1630 or can be downloaded from the Council's ftp site, ftp.gulfcouncil.org.

Although other non-emergency issues not on the agenda may come before the Ad Hoc Goliath Grouper Joint Council Steering Committee for discussion, in accordance with the Magnuson-Stevens Fishery Conservation and Management Act, those issues may not be the subject of formal action during this meeting. Actions of the Ad Hoc Goliath Grouper Joint Council Steering Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: February 19, 2013.
Tracey L. Thompson,
Acting Deputy Director, Office of Sustainable Fisheries, National Marine Fisheries Service.

[FR Doc. 2013-04090 Filed 2-21-13; 8:45 am]

BILLING CODE 3510-22-P